DEPARTMENT OF COMMERCE

National Oceanic and Atmospheric Administration

[RTID 0648-XB088]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Executive Committee.

DATES: The meetings will be held Monday, June 7, 2021 through Thursday, June 10, 2021. For agenda details, see SUPPLEMENTARY INFORMATION.

ADDRESSES: This meeting will be conducted entirely by webinar. Webinar registration details will be available on the Council's website at https://www.mafmc.org/briefing/june-2021.

Council address: Mid-Atlantic Fishery Management Council, 800 N State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Monday, June 7, 2021

Executive Committee (Closed Session)

Develop Advisory Panel appointment recommendations

Tuesday, June 8, 2021

2020 MRIP Estimation Methodology

Presentation and discussion

Bluefish Allocation and Rebuilding Amendment—Final Action

Review public comments and recommendations from the Advisory Panel and Fishery Management Action Team (FMAT)

Consider final action

Recreational Reform Initiative

Receive update and discuss next steps

Wednesday, June 9, 2021

Atlantic Surfclam and Ocean Quahog 2022 Specifications Review

Review recommendations from the Advisory Panel, Scientific and Statistical Committee (SSC), and staff

Recommend any changes to (previously set) 2022 specifications if necessary

Receive brief update on other surfclam and ocean quahog activities (clam survey, genetics study, species separation issues, etc.)

Longfin Squid and Butterfish 2022 Specifications Review

Review recommendations from the Advisory Panel, SSC, and staff

Review (previously set) 2022 longfin squid and butterfish specifications and recommend any changes if necessary

Consider changes to the butterfish mesh regulations

Illex Squid 2021-2022 Specifications

Review recommendations from the Advisory Panel, SSC, and staff

Approve 2022 Illex squid specifications

Consider revisions to 2021 Illex squid specifications

Consider changes to the Illex incidental trip limit during fishery closures

Consider an additional Illex control date

Unmanaged Commercial Landings Report

Review annual report on landings of unmanaged species

Habitat Update

Update from NOAA Fisheries Greater Atlantic Regional Fisheries Office (GARFO)

Habitat Conservation Division on activities of interest (aquaculture, other projects) in the region

Offshore Wind Updates

Presentations from Bureau of Ocean Energy Management (BOEM), GARFO, and Offshore Wind Developers

Thursday, June 10, 2021

ASMFC Policy Board Remand of Black Sea Bass Commercial State Allocations

Council discussion of ASMFC Policy Board decision to remand the commercial black sea bass state allocations to the Summer Flounder, Scup, and Black Sea Bass Management Board and implications for the associated joint amendment/addendum.

Business Session

Committee Reports (SSC, Research Steering Committee); Executive Director's Report (Update on Atlantic Large Whale Take Reduction Team discussions relative to the Mid-Atlantic region); Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c)

Special Accommodations

These meetings are physically accessible to people with disabilities. Requests for sign language interpretation or other auxiliary aid should be directed to Kathy Collins, (302) 526-5253, at least 5 days prior to the meeting date.

Authority: 16 U.S.C. 1801 et seq.

Dated: May 17, 2021.
Tracey L. Thompson,
Acting Deputy Director, Office of Sustainable Fisheries, National Marine Fisheries Service.

[FR Doc. 2021-10718 Filed 5-20-21; 8:45 am]

BILLING CODE 3510-22-P